DEPARTMENT OF COMMERCE

Foreign-Trade Zones Board

[B-21-2023]

Foreign-Trade Zone 28; Application for Subzone Expansion; Acushnet Company; Lakeville, Massachusetts

An application has been submitted to the Foreign-Trade Zones (FTZ) Board by the City of New Bedford, grantee of FTZ 28, requesting an expansion of Subzone 28F on behalf of Acushnet Company (Acushnet), located in Lakeville, Massachusetts. The application was submitted pursuant to the provisions of the Foreign-Trade Zones Act, as amended (19 U.S.C. 81a-81u), and the regulations of the FTZ Board (15 CFR part 400). It was formally docketed on March 9, 2023.

Subzone 28F currently consists of the following site: Site 4 (53.1 acres), 333 Bridge Street, Fairhaven. The proposed expansion would add an additional site to the subzone: Proposed Site 6 (18.42 acres), 175-190 Kenneth W. Welch Drive, Lakeville, Plymouth County. No authorization for production activity has been requested at this time.

In accordance with the FTZ Board's regulations, Juanita Chen of the FTZ Staff is designated examiner to review the application and make recommendations to the FTZ Board.

Public comment is invited from interested parties. Submissions shall be addressed to the FTZ Board's Executive Secretary and sent to: ftz@trade.gov. The closing period for their receipt is April 24, 2023. Rebuttal comments in response to material submitted during the foregoing period may be submitted during the subsequent 15-day period to May 9, 2023.

A copy of the application will be available for public inspection in the “Online FTZ Information Section” section of the FTZ Board's website, which is accessible via www.trade.gov/ftz.

For further information, contact Juanita Chen at juanita.chen@trade.gov.

Dated: March 9, 2023.
Elizabeth Whiteman,
Acting Executive Secretary.

[FR Doc. 2023-05272 Filed 3-14-23; 8:45 am]

BILLING CODE 3510-DS-P